DEPARTMENT OF HOMELAND SECURITY

Coast Guard

[Docket No. USCG-2022-0274]

Certificate of Alternative Compliance for the CGMA CGM DAKA

AGENCY: Coast Guard, DHS.

ACTION: Notification of issuance of a certificate of alternative compliance.

SUMMARY: The Coast Guard announces that the U.S. Coast Guard Fourteenth District Prevention Division has issued a certificate of alternative compliance from the International Regulations for Preventing Collisions at Sea, 1972 (72 COLREGS), for the CGMA CGM DAKA (IMO 9436070). We are issuing this notice because its publication is required by statute. Due to the construction and placement of the forward cargo crane creating a blind sector 1,000 meters immediately ahead of the bow of the vessel over a range of approximately 1-2 degrees, CGMA CGM DAKA cannot fully comply with the light, shape, or sound signal provisions of the 72 COLREGS without interfering with the vessel's design and construction. This notification of issuance of a certificate of alternative compliance promotes the Coast Guard's marine safety mission.

DATES: The Certificate of Alternative Compliance was issued on 14 February 2022.

FOR FURTHER INFORMATION CONTACT: For information or questions about this notice call or email Mr. George Butler, District Fourteen (dpi), U.S. Coast Guard; (808) 535-3415, George.E.Butler@USCG.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law ¹ and Coast Guard regulation,² a vessel's owner, builder, operator, or agent may apply for a certificate of alternative compliance (COAC) and may instead meet alternative requirements.³

¹ 33 U.S.C. 1605(c).

² 33 CFR 81.3.

³ 33 CFR 81.5.

For vessels of special construction or purpose, the cognizant Coast Guard District Office in which the vessel is being built or operated determines whether the vessel for which the COAC is sought complies as closely as possible with the 72 COLREGS, and the Chief of the Prevention Division decides whether to issue the COAC which must specify the required alternative installation. If the Coast Guard issues a COAC, under the governing statute ⁴ and regulations,⁵ the Coast Guard must publish notice of this action. Once issued, a COAC remains valid until information supplied in the COAC application or the COAC terms become inapplicable to the vessel.

⁴ 33 U.S.C. 1605(c).

⁵ 33 CFR 81.18.

The Fourteenth District Prevention Division, U.S. Coast Guard, certifies that the CGMA CGM DAKA (IMO 9436070) is a vessel of special construction or purpose, and that, with respect to the position of the forward cargo crane creating a blind sector 1,000 meters immediately ahead of the bow of the vessel over a range of approximately 1-2 degrees, it is not possible to comply fully with the requirements of the provisions enumerated in the 72 COLREGS, without interfering with the normal operation, construction, or design of the vessel. The U.S. Coast Guard Fourteenth District Prevention Division further finds and certifies that the construction and placement of the forward cargo crane creating a blind sector 1,000 meters immediately ahead of the bow of the vessel over a range of approximately 1-2 degrees, are in the closet possible compliance with the applicable provisions of the 72 COLREGS.⁶

⁶ 33 U.S.C. 1605(a); 33 CFR 81.9.

This notice is issued under authority of 33 U.S.C. 1605(c) and 33 CFR 81.18.

Dated: April 25, 2022.
Ulysses S. Mullins,
Captain, U.S. Coast Guard, Chief, Prevention Division, Fourteenth Coast Guard District.

[FR Doc. 2022-10246 Filed 5-12-22; 8:45 am]

BILLING CODE 9110-04-P